INTERNATIONAL TRADE COMMISSION

[Inv. No. 337-TA-450]

Certain Integrated Circuits, Processes for Making Same, and Products Containing Same; Notice of Commission Determination To Extend the Target Date for Completion of the Investigation

AGENCY: International Trade Commission.

ACTION: Notice.

SUMMARY: Notice is hereby given that the U.S. International Trade Commission has determined to extend the target date for completion of the above-captioned investigation by one month, or until October 7, 2002.

FOR FURTHER INFORMATION CONTACT: Clara Kuehn, Esq., Office of the General Counsel, U.S. International Trade Commission, 500 E Street, SW., Washington, DC 20436, telephone (202) 205-3012. Copies of all nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS-ON-LINE) at http://dockets.usitc.gov/eol/public. Hearing-impaired persons are advised that information on this matter can be obtained by contacting the Commission's TDD terminal on 202-205-1810.

SUPPLEMENTARY INFORMATION: The Commission instituted this investigation on March 6, 2001, based on a complaint filed on behalf of United Microelectronics Corp. of Hsinchu City, Taiwan; UMC Group (USA) of Sunnyvale, CA, and United Foundry Service, Inc. of Hopewell Junction, NY. 66 FR 13567 (2001). The previous target date for completion of this investigation was September 6, 2002. The Commission determined that the target date for completion of the investigation should be extended by one month, or until October 7, 2002, due to the number and complexity of the issues under review. The authority for the Commission's determination is contained in section 337 of the Tariff Act of 1930, as amended (19 U.S.C. 1337), and in section 210.51(a) of the Commission's Rules of Practice and Procedure (19 CFR 210.51(a)).

Issued: September 6, 2002.
By order of the Commission.
Marilyn R. Abbott,
Secretary to the Commission.

[FR Doc. 02-23102 Filed 9-11-02; 8:45 am]

BILLING CODE 7020-02-P